FARM CREDIT ADMINISTRATION

12 CFR Parts 614 and 615

RIN 3052-AB96

Loan Policies and Operations; Funding and Fiscal Affairs, Loan Policies and Operations, and Funding Operations; OFI Lending

AGENCY: Farm Credit Administration.

ACTION: Proposed rule; reopening of comment period.

SUMMARY: The Farm Credit Administration (FCA, agency, or we) is reopening the comment period on the proposed rule to amend the agency's regulations governing other financing institutions (OFIs) and investments in Farmers' notes so all interested parties will have more time to respond.

DATES: Please send your comments to the FCA by December 22, 2003.

ADDRESSES: We encourage you to send comments by electronic mail to “reg-comm@fca.gov” or through the Pending Regulations section of FCA's Web site, “http://www.fca.gov.” You may also send comments to S. Robert Coleman, Director, Regulation and Policy Division, Office of Policy and Analysis, Farm Credit Administration, 1501 Farm Credit Drive, McLean, Virginia 22102-5090 or by facsimile to (703) 734-5784. You may review copies of all comments we receive at our office in McLean, Virginia.

FOR FURTHER INFORMATION CONTACT: Dennis K. Carpenter, Senior Policy Analyst, Office of Policy and Analysis, Farm Credit Administration, McLean, VA 22102-5090, (703) 883-4498, TTY (703) 883-4434 or Richard A. Katz, Senior Attorney, Office of General Counsel, Farm Credit Administration, McLean, VA 22102-5090, (703) 883-4020, TTY (703) 883-2020.

SUPPLEMENTARY INFORMATION: On August 11, 2003, we published a proposed rule in the Federal Register seeking public comment on amendments to regulations governing other financing institutions and investments in Farmers' notes. The comment period expired on October 10, 2003. See 68 FR 47502, August 11, 2003. One member of the public has requested that the FCA provide interested parties an additional 60 days to comment. In response to this request, we are reopening the comment period until December 22, 2003, so all interested parties have more time to respond. The FCA supports public involvement and participation in its regulatory and policy process and invites all interested parties to review and provide comments on the proposed rule.

Dated: October 17, 2003.
Jeanette C. Brinkley,
Secretary, Farm Credit Administration Board.

[FR Doc. 03-26729 Filed 10-22-03; 8:45 am]

BILLING CODE 6705-01-P